DEPARTMENT OF ENERGY

Federal Energy Regulatory Commission

Combined Notice of Filings #1

Take notice that the Commission received the following electric corporate filings:

Docket Numbers: EC21-24-000.

Applicants: Crossing Trails Wind Power Project LLC, Headwaters Wind Farm II LLC.

Description: Application for Authorization Under Section 203 of the Federal Power Act, et al. of Crossing Trails Wind Power Project LLC, et al.

Filed Date: 11/18/20.

Accession Number: 20201118-5199.

Comments Due: 5 p.m. ET 12/9/20.

Take notice that the Commission received the following exempt wholesale generator filings:

Docket Numbers: EG21-37-000.

Applicants: Luna Storage, LLC.

Description: Self-Certification of Exempt Wholesale Generator of Luna Storage, LLC.

Filed Date: 11/18/20.

Accession Number: 20201118-5185.

Comments Due: 5 p.m. ET 12/9/20.

Take notice that the Commission received the following electric rate filings:

Docket Numbers: ER11-2508-025; ER11-2863-012; ER19-1411-001; ER19-1412-001; ER19-1414-001; ER19-1417-002; ER19-1865-001; ER19-1866-001; ER19-1867-001; ER19-1868-001; ER19-1869-001; ER19-1870-001; ER19-1871-001; ER19-1872-001; ER19-2140-002; ER19-2141-002; ER19-2142-002; ER19-2143-002; ER19-2144-002; ER19-2145-002; ER19-2146-002; ER19-2147-002; ER19-2148-002; ER20-1887-001.

Applicants: GenOn Energy Management, LLC, Blossburg Power, LLC, Brunot Island Power, LLC, Chalk Point Steam, LLC, GenOn Bowline, LLC, GenOn Canal, LLC, GenOn Mid-Atlantic, LLC, GenOn Power Midwest, LP, GenOn REMA, LLC, Gilbert Power, LLC, Hamilton Power, LLC, Heritage Power Marketing, LLC, Hunterstown Power, LLC, Niles Power, LLC, Orrtanna Power, LLC, New Castle Power, LLC, Mountain Power, LLC, Portland Power, LLC, Sayreville Power, LLC, Shawnee Power, LLC, Shawville Power, LLC, Titus Power, LLC, Tolna Power, LLC, Warren Generation, LLC.

Description: Supplement to June 26, 2020 Updated Market Power Analysis for the Northeast Region of the GenOn Holdings, Inc. subsidiaries.

Filed Date: 11/18/20.

Accession Number: 20201118-5186.

Comments Due: 5 p.m. ET 12/9/20.

Docket Numbers: ER20-1800-002; ER20-1799-002; ER20-1801-003.

Applicants: Techren Solar III LLC, Techren Solar IV LLC, Techren Solar V LLC.

Description: Notice of Non-Material Change in Status of Techren Solar III LLC, et al.

Filed Date: 11/18/20.

Accession Number: 20201118-5195.

Comments Due: 5 p.m. ET 12/9/20.

Docket Numbers: ER21-121-001.

Applicants: PJM Interconnection, L.L.C.

Description: Tariff Amendment: Errata to WMPA SA No. 5825, Queue No. AF2-401 in Docket No. ER21-121 to be effective 9/16/2020.

Filed Date: 11/18/20.

Accession Number: 20201118-5080.

Comments Due: 5 p.m. ET 12/9/20.

Docket Numbers: ER21-434-000.

Applicants: Nevada Power Company.

Description: Compliance filing: Market-Based Rate Tariff, Volume No. 11; WECC Price Cap to be effective 12/31/9998.

Filed Date: 11/18/20.

Accession Number: 20201118-5052.

Comments Due: 5 p.m. ET 12/9/20.

Docket Numbers: ER21-435-000.

Applicants: Public Service Company of Colorado.

Description: § 205(d) Rate Filing: 2020-11-18_PSC-SWF-Info-2020-09-Intercon Study-614-0.0.0 to be effective 11/19/2020.

Filed Date: 11/18/20.

Accession Number: 20201118-5064.

Comments Due: 5 p.m. ET 12/9/20.

Docket Numbers: ER21-436-000.

Applicants: San Diego Gas & Electric.

Description: Annual Filing of Revised Costs and Accruals for Post-Employment Benefits Other than Pensions of San Diego Gas & Electric Company.

Filed Date: 11/18/20.

Accession Number: 20201118-5174.

Comments Due: 5 p.m. ET 12/9/20.

Docket Numbers: ER21-437-000.

Applicants: AEP Texas Inc.

Description: § 205(d) Rate Filing: AEPTX-LCRA TSC Asphalt Mines Facilities Development Agreement to be effective 11/11/2020.

Filed Date: 11/19/20.

Accession Number: 20201119-5011.

Comments Due: 5 p.m. ET 12/10/20.

Docket Numbers: ER21-438-000.

Applicants: PJM Interconnection, L.L.C.

Description: § 205(d) Rate Filing: Third Revised ISA No. 4415; Queue No. AF2-044 to be effective 10/20/2020.

Filed Date: 11/19/20.

Accession Number: 20201119-5045.

Comments Due: 5 p.m. ET 12/10/20.

Docket Numbers: ER21-439-000.

Applicants: Moss Landing Energy Storage 1, LLC.

Description: Baseline eTariff Filing: SFA new baseline to be effective 11/20/2020.

Filed Date: 11/19/20.

Accession Number: 20201119-5057.

Comments Due: 5 p.m. ET 12/10/20.

Docket Numbers: ER21-440-000.

Applicants: Moss Landing Energy Storage 2, LLC.

Description: Baseline eTariff Filing: SFA COC new baseline to be effective 11/20/2020.

Filed Date: 11/19/20.

Accession Number: 20201119-5058.

Comments Due: 5 p.m. ET 12/10/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2020.
Kimberly D. Bose,
Secretary.

[FR Doc. 2020-26083 Filed 11-24-20; 8:45 am]

BILLING CODE 6717-01-P